NATIONAL SCIENCE FOUNDATION

Astronomy and Astrophysics Advisory Committee; Cancellation of Meeting

AGENCY: National Science Foundation.

ACTION: Notice; Cancellation of meeting date.

The National Science Foundation published a notice in the Federal Register January 28, 2025, in FR Doc. 2025-01779 at 90 FR 8306, concerning a meeting of the Astronomy and Astrophysics Advisory Committee. The meeting scheduled for Tuesday, February 25, 2025, at 10 a.m. (ET) is cancelled.

FOR FURTHER INFORMATION CONTACT: Please contact Crystal Robinson crrobins@nsf.gov or 703-292-8687.

Dated: February 21, 2025.
Crystal Robinson,
Committee Management Officer, National Science Foundation.

[FR Doc. 2025-03097 Filed 2-25-25; 8:45 am]

BILLING CODE 7555-01-P